DEPARTMENT OF COMMERCE

International Trade Administration

U.S. Department of Commerce Trade Finance Advisory Council

AGENCY: International Trade Administration, U.S. Department of Commerce.

ACTION: Notice of an open meeting.

SUMMARY: The U.S. Department of Commerce Trade Finance Advisory Council (TFAC or Council) will hold a meeting on Thursday, February 22, 2018, at the U.S. Department of Commerce, in Washington, DC. The meeting is open to the public with registration instructions provided below.

DATES: Thursday, February 22, 2018, from approximately 10:00 a.m. to 3:00 p.m. Eastern Standard Time (EST). The deadline for members of the public to register, including requests to make comments during the meeting and for auxiliary aids, or to submit written comments for dissemination prior to the meeting, is 5:00 p.m. EST on February 14, 2018. Members of the public are encouraged to submit registration requests and written comments via email to ensure timely receipt.

ADDRESSES: U.S. Department of Commerce, 1401 Constitution Avenue NW, Washington, DC 20230.

FOR FURTHER INFORMATION CONTACT: Ericka Ukrow, Designated Federal Officer, Office of Finance and Insurance Industries (OFII), International Trade Administration, U.S. Department of Commerce at (202) 482-0405; email: Ericka.Ukrow@trade.gov.

SUPPLEMENTARY INFORMATION:

I. Background

On July 25, 2016, the Secretary of Commerce established the TFAC pursuant to discretionary authority and in accordance with the Federal Advisory Committee Act, as amended, 5 U.S.C. App. The TFAC advises the Secretary of Commerce in identifying effective ways to help expand access to finance for U.S. exporters, especially small- and medium-sized enterprises (SMEs) and their foreign buyers. The TFAC also provides a forum to facilitate the discussion between a diverse group of stakeholders such as banks, non-bank financial institutions, other trade finance related organizations, and exporters, to gain a better understanding regarding current challenges facing U.S. exporters in accessing capital.

On February 22, 2018, the TFAC will hold its third meeting. During this meeting members are expected to discuss possible recommendations on policies and programs that can increase awareness of, and expand access to, private export financing resources for U.S. exporters. They will also hear from officials from the Department of Commerce and other agencies on issues impacting the scope of their work and mission.

Public Participation

The meeting will be open to the public and will be accessible to people with disabilities.

All guests are required to register in advance by the deadline identified under the DATE caption. Requests to register (including to speak or for auxiliary aids) and any written comments should be submitted by either of the following methods: (a) Electronic Submission: Submit statements electronically to Ericka Ukrow, U.S. Department of Commerce Trade Finance Advisory Council Designated Federal Officer, via email to TFAC@trade.gov; or (b) Paper Submissions: Send paper statements to Ericka Ukrow, U.S. Department of Commerce Trade Finance Advisory Council Designated Federal Officer, Room 18002, 1401 Constitution Avenue NW, Washington, DC 20230. Last minute requests will be accepted, but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker. If the number of registrants requesting to make statements is greater than can be reasonably accommodated during the meeting, the International Trade Administration may conduct a lottery to determine the speakers. Speakers are requested to submit a written copy of their prepared remarks by 5:00 p.m. EDT on February 14, 2018, for inclusion in the meeting records and for circulation to the members of the Council. In addition, any member of the public may submit pertinent written comments concerning matters relevant to the TFAC's responsibilities at any time before or after the meeting. Comments may be submitted to Ericka Ukrow, at the contact information indicated above. To be considered during the meeting, comments must be received no later than 5 p.m. EDT on February 14, 2018, to ensure transmission to the Council members prior to the meeting. Comments received after that date and time will be distributed to the members but may not be considered during the meeting. Comments and statements will be posted on the U.S. Department of Commerce Trade Finance Advisory Council website (http://trade.gov/TFAC) without change, including any business or personal information provided such as names, addresses, email addresses, or telephone numbers.

All comments and statements received, including attachments and other supporting materials, are part of the public record and subject to public disclosure. You should submit only information that you are prepared to have made publicly available.

II. Meeting Minutes

Copies of TFAC meeting minutes will be available within 90 days of the meeting.

Dated: January 26, 2018.
Paul Thanos,
Director, Office of Finance and Insurance Industries.

[FR Doc. 2018-02273 Filed 2-5-18; 8:45 am]

BILLING CODE P